DEPARTMENT OF TRANSPORTATION

Federal Aviation Administration

Thirteenth RTCA SC-230 Airborne Weather Detection Systems Plenary

AGENCY: Federal Aviation Administration (FAA), U.S. Department of Transportation (DOT).

ACTION: Thirteenth RTCA SC-230 Airborne Weather Detection Systems Plenary.

SUMMARY: The FAA is issuing this notice to advise the public of a meeting of Thirteenth RTCA SC-230 Airborne Weather Detection Systems Plenary.

DATES: The meeting will be held January 10-11, 2018 11:00 a.m.-2:00 p.m.

ADDRESSES: The meeting will be held at: Virtual: https://rtca.webex.com/rtca/j.php?MTID=m06b838012ad10a9ef5a8c305a58ce21f, Join by phone: U.S./Canada Toll Free: 1-855-358-5393, Meeting ID: 635 383 355, Password: BavWpZr3.

FOR FURTHER INFORMATION CONTACT: Karan Hofmann at khofmann@rtca.org or 202-330-0680, or The RTCA Secretariat, 1150 18th Street NW, Suite 910, Washington, DC, 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Thirteenth RTCA SC-230 Airborne Weather Detection Systems Plenary. The agenda will include the following:

Wednesday, January 10, 2018—11:00 a.m.-2:00 p.m.

1. Welcome and Administrative Remarks

2. Introductions

3. Agenda Review

4. Meeting Minutes Review and Approval of last Plenary

5. Review of proposed Change 1 for DO-220A and DO-213A

6. Discussion on PWS, ADWRS, and Turbulence files availability

Thursday, January 11, 2018—11:00 a.m.-2:00 p.m.

1. Review of proposed Change 1 for DO-220A and DO-213A

2. Decision to approve release of DO-220A and DO-213A FOR FINAL REVIEW AND COMMENT

3. Action Item Review

4. Any other Business

5. Date and Place of Next Meeting

6. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 12, 2017.
Mohannad Dawoud,
Management & Program Analyst, Partnership Contracts Branch, ANG-A17, NextGen, Procurement Services Division, Federal Aviation Administration.

[FR Doc. 2017-27042 Filed 12-14-17; 8:45 am]

BILLING CODE 4910-13-P